DEPARTMENT OF HEALTH AND HUMAN SERVICES

Office of the Secretary

[Document Identifier: HHS-OS-0990-0416-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0416, which expires March 31, 2017. Prior to submitting the ICR to OMB, OS seeks comments from the public regarding the burden estimate, below, or any other aspect of the ICR.

DATES: Comments on the ICR must be received on or before February 7, 2017.

ADDRESSES: Submit your comments to Information.CollectionClearance@hhs.gov or by calling (202) 690-5683.

FOR FURTHER INFORMATION CONTACT: Information Collection Clearance staff, Sherrette.funn@hhs.gov or (202) 690-5683.

SUPPLEMENTARY INFORMATION: When submitting comments or requesting information, please include the document identifier 0990-0416-60D for reference.

Proposed Project: Pregnancy Assistance Fund (PAF) Performance Measures Collection Abstract: The Office of Adolescent Health (OAH), U.S. Department of Health and Human Services (HHS), is requesting an extension of a currently approved information collection request by OMB. The purpose of the renewal is to extend the period of collection through March 31, 2018 to complete the collection of the Pregnancy Assistance Fund (PAF) Performance Measures from grantees funded in August 2013, and to allow for data collection from 3 new PAF grantees funded in July 2015, increasing the number of respondents from 17 to 20. There are no changes to the data to be collected.

Need and Proposed Use of the Information: OAH will use the performance data to inform planning and resource allocation decisions; identify technical assistance needs; and provide Congress, OMB, and the general public with information about the individuals who participate in PAF-funded activities and the services they receive.

Likely Respondents: 20 PAF grantees (States and Tribes).

Burden Statement: Burden in this context means the time expended by persons to generate, maintain, retain, disclose, or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The table below summarizes the total annual burden hours estimated for this ICR.

Exhibit 1—Total Estimated Annualized Burden Hours
Forms (if necessary) | Type of respondent | Number of respondents | Number of responses per respondent | Average burden hours per respondent | Total burden hours
Participant & Partner Characteristics (16 measures) | Grantees Program Staff: All PAF Grantees | 20 | 1 | 19 | 380
Category 1 Measures (5 measures) | Grantee Program Staff: PAF Category 1 Grantees (serving institutions of higher education) | 3 | 1 | 6 | 18
Category 2 Measures (7 measures) | Grantee Program Staff: PAF Category 2 Grantees (serving high schools and community service centers) | 18 | 1 | 9 | 162
Category 3 Measures (3 measures) | Grantee Program Staff: PAF Category 3 Grantees (improve services for pregnant women who are victims of domestic violence, sexual violence, sexual assault, and stalking) | 5 | 1 | 3 | 15
Category 4 Measures (1 measure) | Grantee Program Staff: PAF Category 4 Grantees (Implementing public awareness and education activities) | 9 | 1 | 1 | 9
Total |  | 20 |  |  | 584

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2016-29451 Filed 12-8-16; 8:45 am]

BILLING CODE 4168-11-P